DEPARTMENT OF COMMERCE

National Oceanic and Atmospheric Administration

RIN 0648-XE400

Endangered Species; File Nos. 17304, 18238, 18926, 19496, 19528, 19621, 19637, and 19716

AGENCY: National Marine Fisheries Service (NMFS), National Oceanic and Atmospheric Administration (NOAA), Commerce.

ACTION: Notice; issuance of permit.

SUMMARY: Notice is hereby given that seven permits and one permit modification have been issued permits to take green (Chelonia mydas), hawksbill (Eretmochelys imbricata), Kemp's ridley (Lepidochelys kempii), leatherback (Dermochelys coriacea), loggerhead (Caretta caretta) and/or olive ridley (Lepidochelys olivacea) sea turtles for purposes of scientific research. See SUPPLEMENTARY INFORMATION for additional information regarding permittees.

ADDRESSES: The permit and related documents are available for review upon written request or by appointment in the Permits and Conservation Division, Office of Protected Resources, NMFS, 1315 East-West Highway, Room 13705, Silver Spring, MD 20910; phone (301) 427-8401; fax (301) 713-0376.

FOR FURTHER INFORMATION CONTACT: Arturo Herrera or Amy Hapeman, (301) 427-8401.

SUPPLEMENTARY INFORMATION: Notices were published in the Federal Register that a request for a scientific research permit to take sea turtles had been submitted by the below-named individuals or organizations as follows:

• File No. 17304-02: October 5, 2015 (80 FR 60129)

• File No. 18238: July 29, 2015 (80 FR 45203)

• File Nos. 18926 and 19528: September 14, 2015 (80 FR 55095)

• File No. 19496: January 13, 2016 (81 FR 1621)

• File No. 19621: October 5, 2015 (80 FR 60123)

• File No. 19637: January 19, 2016 (81 FR 2846)

• File No. 19716: January 6, 2016 (81 FR 462)

The requested permits have been issued under the authority of the Endangered Species Act of 1973, as amended (ESA; 16 U.S.C. 1531 et seq.), and the regulations governing the taking, importing, and exporting of endangered and threatened species (50 CFR parts 222-226). The following summarizes each permit.

Permit No. 17304 issued to Dr. Kristen Hart [U.S. Geological Survey, 3205 College Ave., Davie, FL 33314] authorizes researchers to capture green, loggerhead, Kemp's ridley, and hawksbill sea turtles annually by hand or net in the northern Gulf of Mexico. Alternative to direct capture, researchers may obtain sea turtles for study that are legally captured during relocation trawling for the U.S. Army Corps of Engineers. Researchers may examine, biologically sample, tag, and measure sea turtles before release and temporarily track satellite tagged animals after release. Dr. Hart has been issued a permit modification (Permit No. 17304-02) to (1) add trawling as a capture method, and (2) increase the number of Kemp's ridley and loggerhead sea turtles that may be taken annually. The permit expires on September 30, 2018.

The NMFS Southwest Fisheries Science Center (SWFSC), [File No. 18238; 8901 La Jolla Shore Dr., La Jolla, CA 92037, (Responsible Party: Lisa Ballance, Ph.D.)] has been issued a five-year permit to conduct research on green, loggerhead, olive ridley sea turtles in southern California waters. Researchers may conduct vessel surveys for counts, captures, examination, observation, marking, biological sampling, tagging, and morphometrics.

Jane Provancha [File No. 18926; Mail Code: IHA-005 OHF, Room 1104, Kennedy Space Center, FL 32815] has been issued a five-year permit to continue monitoring the abundance and distribution of sea turtles inhabiting the waters of the northern Indian River Lagoon and Mosquito Lagoon system, Florida. Researchers may capture by hand, tangle, or dip net green, Kemp's ridley, hawksbill, and loggerhead sea turtles for morphometric measures, tagging, and/or biological sampling before release.

Dr. Mariana Fuentes [File No. 19496; Florida State University, 581 Oakland Avenue, Tallahassee, FL 32301] has been issued a five-year permit to conduct year-round field activities in the Florida Big Bend Region to take 1,225 sea turtles annually during vessel surveys for count and capture up to 480 sea turtles by hand, dip net or strike net. The following procedures will be performed before release: Measure; weigh; blood, scute, and biopsy sampling; temporary carapace marking; tag; satellite tagging; and/or photography/videography.

Michael Bresette [File No. 19528; Inwater Research Group Inc., 4160 NE. Hyline Dr., Jensen Beach, FL 34957] has been issued a five-year permit to study sea turtles in waters of the Indian River and Miami-Dade Counties in southeastern Florida. Researchers may count and identify green, loggerhead, hawksbill, Kemp's ridley, and leatherback sea turtles during vessel surveys and capture animals by hand or net. Captured animals may be examined, measured, tagged, marked, photographed, and biologically sampled before release.

Dr. Michael Arendt [Permit No. 19621; South Carolina Department of Natural Resources, Marine Resources Division, 217 Fort Johnson Road, Charleston, SC 29412] has been issued a five-year permit to study green, Kemp's ridley, leatherback, and loggerhead sea turtles in the waters of Florida, Georgia and South Carolina. Researchers may capture animals by trawl or tangle net and perform the following procedures before release: Morphometrics, tagging, photography, biological sampling, ultrasound, marking, laparoscopy and associated transport, and/or epibiota removal. A limited number of sea turtles may accidentally die due to capture over the life of the permit.

Dr. Allen Foley [File No. 19637; Florida Fish and Wildlife Conservation Commission, Fish and Wildlife Research Institute, 370 Zoo Parkway, Jacksonville, FL 32218] has been issued a five-year permit to conduct research within the boundaries of the Everglades NP in the vicinity of Arsnicker, Rabbit, and Twin Keys. The research will be from May to August and the applicant will approach and count up to 100 green sea turtles annually during vessel surveys and capture up to 125 loggerheads, 10 Kemp's ridleys, and 5 hawksbills. Sea turtles will be captured by hand and the following procedures will be performed before release: Measure, photograph, weigh, tag, temporary carapace marking, and blood sample. Up to 10 loggerheads also would have tumors tissue sampled annually.

Dr. Robert Hardy [File No. 19716; 100 8th Avenue Southeast Florida Fish and Wildlife Conservation Commission, Fish & Wildlife Research Institute, St. Petersburg, FL 33701] has been issued a five-year permit to conduct research in the surface-pelagic drift communities of the Atlantic Ocean and Gulf of Mexico. The applicant will conduct vessel capture by dip net up to 300 loggerhead, 200 green, 60 hawksbill, 130 Kemp's ridley and 10 leatherback sea turtles annually. Additionally, 150 loggerheads and 440 leatherbacks would be counted during vessel surveys but not for capture. Depending on life stage and size, sea turtles would have the following procedures performed prior to release: Measure, weigh, oral swab, esophageal lavage, skin and scute biopsy, tag, and/or epoxy attachment of a satellite or VHF transmitter. Voided fecal samples also would be collected opportunistically.

Issuance of the permits, as required by the ESA, was based on a finding that each permit (1) was applied for in good faith, (2) will not operate to the disadvantage of such endangered or threatened species, and (3) is consistent with the purposes and policies set forth in section 2 of the ESA.

Dated: June 28, 2016.
Julia Harrison,
Chief, Permits and Conservation Division, Office of Protected Resources, National Marine Fisheries Service.

[FR Doc. 2016-15776 Filed 7-1-16; 8:45 am]

BILLING CODE 3510-22-P